DEPARTMENT OF AGRICULTURE

Rural Utilities Service

Information Collection Activity; Comment Request

AGENCY: Rural Utilities Service, USDA.

ACTION: Notice and request for comments.

SUMMARY: In accordance with the Paperwork Reduction Act of 1995 (44 U.S.C. Chapter 35, as amended), the Rural Utilities Service (RUS) invites comments on this information collection for which RUS intends to request approval from the Office of Management and Budget (OMB).

DATES: Comments on this notice must be received by December 22, 2003.

FOR FURTHER INFORMATION CONTACT: Richard Annan, Acting Director, Program Development & Regulatory Analysis, Rural Utilities Service, USDA, 1400 Independence Ave., SW., STOP 1522, Room 5168 South Building, Washington, DC 20250-1522. Telephone: (202) 720-0736. FAX: (202) 720-4120.

SUPPLEMENTARY INFORMATION: Title: 7 CFR Part 1794, Environmental Policies and Procedures.

OMB Control Number: 0572-0117.

Type of Request: Extension of a previously approved collection with change.

Abstract: The information collection contained in this rule are requirements prescribed by the National Environmental Policy Act of 1969 (NEPA), as amended (42 U.S.C. 4321-4346), the Council on Environmental Quality (CEQ) Regulations for Implementing the Procedural Provisions of NEPA (40 CFR parts 1500-1508), and certain related Federal environmental laws, statutes, regulations, and Executive Orders.

RUS applicants provide environmental documentation, as prescribed by the rule, to assure that policy contained in NEPA is followed. The burden varies depending on the type, size, and location of each project, which then prescribes the type of information collection involved. The collection of information is only that information that is essential for RUS to provide environmental safeguards and to comply with NEPA as implemented by the CEQ regulations.

Estimate of Burden: Public reporting burden for this collection of information is estimated to average 240 hours per response.

Respondents: Business or other for-profit and non-profit institutions.

Estimated Number of Respondents: 600.

Estimated Number of Responses per Respondent: 3.

Estimate Total Annual Burden on Respondents: 450,200 hours.

Copies of this information collection can be obtained from Dawn Wolfgang, Program Development and Regulatory Analysis, Rural Utilities Service at (202) 720-0812.

Comments are invited on (a) whether the collection of information is necessary for the proper performance of the functions of the agency, including whether the information will have practical utility; (b) the accuracy of the agency's estimate of burden including the validity of the methodology and assumption used; (c) ways to enhance the quality, utility and clarity of the information to be collected; and (d) ways to minimize the burden of the collection of information on those who are to respond, including through the use of appropriate automated, electronic, mechanical, or other technological collection techniques on other forms of information technology.

All responses to this notice will be summarized and included in the request for OMB approval. All comments will also become a matter of public record.

Dated: October 16, 2003.
Curtis M. Anderson,
Deputy Administrator, Rural Utilities Service.

[FR Doc. 03-26582 Filed 10-21-03; 8:45 am]

BILLING CODE 3410-15-P